DEPARTMENT OF COMMERCE

Foreign-Trade Zones Board

[Docket 62-2002]

Foreign-Trade Zone 72—Indianapolis, IN, Application for Subzone, Decatur Mold, Tool and Engineering, Inc. (Plastic Injection Molds); North Vernon, IN

An application has been submitted to the Foreign-Trade Zones Board (the Board) by the Indianapolis Airport Authority, grantee of FTZ 72, requesting special-purpose subzone status for the manufacturing and warehousing facilities of Decatur Mold, Tool and Engineering, Inc. (Decatur Mold), located in North Vernon, Indiana. The application was submitted pursuant to the provisions of the Foreign-Trade Zones Act, as amended (19 U.S.C. 81a-81u), and the regulations of the Board (15 CFR part 400). It was formally filed on December 17, 2002.

The Decatur Mold facility is comprised of two sites with 150 employees in Jennings County, Indiana: Site 1 (20 acres)—located at 3330 and 3430 North State Highway 7, North Vernon; and Site 2 (78 acres)—located at Rural Route 5/E County Road 175N, North Vernon. The facilities are used for the manufacturing, storage and distribution of plastic injection molds (HTS, 8477 and 8480, duty rate 3.1%) and components. Components and materials sourced from abroad (representing 5% of all parts used in manufacturing) include: metal stamp dies, thermolators, plastic material dryers, electronic weighing scales, belt type conveyors, robots—calendaring, color feeders, pins, sleeves, heaters, material grinders, hot stamps, parts for robots, mold bases, sonic welders, and hot tip controls (HTS 8207, 8418, 8419, 8423, 8428, 8477, 8479, 8480, 8515, and 9032 duty rate ranges from duty free to 5.7%).

FTZ procedures would exempt Decatur Mold from Customs duty payments on the foreign components used in export production. Some 30 percent of the plant's shipments are exported. On its domestic sales, Decatur Mold would be able to choose the duty rates during Customs entry procedures that apply to finished molds (3.1%) for the foreign inputs noted above. The request indicates that the savings from FTZ procedures would help improve the plant's international competitiveness.

In accordance with the Board's regulations, a member of the FTZ staff has been appointed examiner to investigate the application and report to the Board.

Public comment is invited from interested parties. Submissions (original and 3 copies) shall be addressed to the Board's Executive Secretary at one of the following addresses:

1. Submissions Via Express/Package Delivery Services: Foreign-Trade-Zones Board, U.S. Department of Commerce, Franklin Court Building, Suite 4100W, 1099 14th St. NW., Washington, DC 20005; or

2. Submissions Via the U.S. Postal Service: Foreign-Trade-Zones Board, U.S. Department of Commerce, FCB, Suite 4100W, 1401 Constitution Ave. NW., Washington, DC 20230.

The closing period for their receipt is February 25, 2003. Rebuttal comments in response to material submitted during the foregoing period may be submitted during the subsequent 15-day period (to March 12, 2003).

A copy of the application and accompanying exhibits will be available for public inspection at the Office of the Foreign-Trade-Zones Board's Executive Secretary at the first address listed above, and at the U.S. Department of Commerce Export Assistance Center, Penwood One, Suite 106, 11405 North Pennsylvania Street, Carmel, IN 46032.

Dated: December 19, 2002.
Pierre Duy,
Acting Executive Secretary.

[FR Doc. 02-32730 Filed 12-26-02; 8:45 am]

BILLING CODE 3510-DS-P